DEPARTMENT OF COMMERCE

International Trade Administration Mission Statement

Application Deadline Extended; Secretarial Business India High Technology Mission

AGENCY: Department of Commerce.

ACTION: Notice.

SUMMARY: Secretary of Commerce Gary Locke will lead a senior-level business development trade mission to New Delhi, Mumbai and Bangalore, India, February 6-11, 2011. The overall focus of the trip will be commercial opportunities for U.S. companies, including joint ventures and export opportunities. In each city participants will have a market briefings followed by one-on-one appointments with potential buyers/partners and meetings with high level government officials.

DATES: The application deadline has been extended to Friday, December 3, 2010. Applications should be submitted to the Office of Business Liaison at IndiaMission2011@doc.gov. Applications received after that date will be considered only if space and scheduling constraints permit.

FOR FURTHER INFORMATION CONTACT: Office of Business Liaison; Room 5062; Department of Commerce; Washington, DC 20230; Tel: (202) 482-1360; Fax: (202) 482-4054.

Timeframe for Recruitment and Applications: Mission recruitment will be conducted in an open and public manner, including publication in the Federal Register, posting on the Commerce Department trade events page (http://www.export.gov/tradeevents/) and other Internet web sites, press releases to general and trade media, direct mail, broadcast fax, notices by industry trade associations and other multiplier groups, and publicity at industry meetings, symposia, conferences, and trade shows. The Commerce Department's Office of Business Liaison and the International Trade Administration will explore and welcome outreach assistance from other interested organizations, including other U.S. Government agencies.

Recruitment for this mission will begin immediately upon approval. Applications can be completed on-line at the India High Technology Development Missions' Web site at http://www.trade.gov/IndiaMission2011 or can be obtained by contacting the U.S. Department of Commerce Office of Business Liaison (202-482-1360 or IndiaMission2011@doc.gov). The application deadline has been extended to Friday, December 3, 2010. Completed applications should be submitted to the Office of Business Liaison. Applications received after Friday, December 3, 2010 will be considered only if space and scheduling constraints permit.

General Information and Applications: The Office of Business Liaison, 1401 Constitution Avenue, NW., Room 5062, Washington, DC 20230, Tel: 202-482-1360, Fax: 202-482-4054, E-mail: IndiaMission2011@doc.gov.

Dated: November 24, 2010.
Jennifer Andberg,
Deputy Director, Office of Business Liaison, U.S. Department of Commerce.

[FR Doc. 2010-30120 Filed 11-29-10; 8:45 am]

BILLING CODE 3510-FP-P